DEPARTMENT OF TRANSPORTATION

National Highway Traffic Safety Administration

[Docket No. NHTSA-2011-0033; Notice 2]

Goodyear Tire and Rubber Company, Grant of Petition for Decision of Inconsequential Noncompliance

AGENCY: National Highway Traffic Safety Administration, DOT.

ACTION: Notice of Petition Grant.

SUMMARY: Goodyear Tire and Rubber Company,(Goodyear),¹ has determined that approximately 26,224 Goodyear Assurance ComforTred Touring passenger replacement car tires manufactured between January 4, 2010 and September 11, 2010, did not fully comply with paragraph S5.5(e) of Federal Motor Vehicle Safety Standard (FMVSS) No. 139, New Pneumatic Radial Tires for Light Vehicles. Goodyear has filed an appropriate report pursuant to 49 CFR part 573, Defect and Noncompliance Responsibility and Reports (dated December 16, 2010).

¹ Goodyear Tire and Rubber Company (Goodyear) is a replacement equipment manufacturer incorporated in the state of Ohio.

Pursuant to 49 U.S.C. 30118(d) and 30120(h) and the rule implementing those provisions at 49 CFR part 556, Goodyear has petitioned for an exemption from the notification and remedy requirements of 49 U.S.C. chapter 301 on the basis that this noncompliance is inconsequential to motor vehicle safety.

Notice of receipt of Goodyear's petition was published with a 30-day public comment period, on March 18, 2011, in the Federal Register (76 FR 15045). No comments were received. To view the petition and all supporting documents log onto the Federal Docket Management System Web site at: http://www.regulations.gov/. Then follow the online search instructions to locate docket number “NHTSA-2011-0033.”

Contact Information: For further information on this decision contact Mr. George Gillespie, Office of Vehicle Safety Compliance, the National Highway Traffic Safety Administration (NHTSA), telephone (202) 366-5299, facsimile (202) 366-7002.

Summary of Goodyear's Petition: Affected are approximately 26,224 Goodyear Assurance ComforTred Touring passenger car replacement tires, size 215/70R15 that were manufactured between January 4, 2010 and September 11, 2010.

Goodyear explains that the noncompliance is that, due to a mold labeling error, the sidewall marking on the tires incorrectly describes the generic name of the cord material in the tread area of the tires as required by paragraph S5.5(e). Specifically, the tires in question were inadvertently manufactured with “Tread: 1 Polyester Cord + 2 Steel Cords + 1 Polyester Cord. The labeling should have been “Tread: 1 Polyester Cord + 2 Steel Cords + 1 Nylon Cord.”

Goodyear argues that this noncompliance is inconsequential to motor vehicle safety because while the non-compliant tires are mislabeled they meet or exceed all applicable Federal Motor Vehicle Safety Standards, the noncompliant sidewall marking does not create an unsafe condition, and all other labeling requirements have been met.

Goodyear points out that NHTSA has previously granted similar petitions for non-compliances in sidewall marking.

Goodyear additionally states that it has corrected the affected tire molds and all future production will have the correct material shown on the sidewall.

In summation, Goodyear believes that the described noncompliance of its tires to meet the requirements of FMVSS No. 139 is inconsequential to motor vehicle safety, and that its petition, to exempt from providing recall notification of noncompliance as required by 49 U.S.C. 30118 and remedying the recall noncompliance as required by 49 U.S.C. 30120, and should be granted.

NHTSA Decision: The agency agrees with Goodyear that the noncompliances are inconsequential to motor vehicle safety. The agency believes that the true measure of inconsequentiality to motor vehicle safety in this case is that there is no effect of the noncompliances on the operational safety of vehicles on which these tires are mounted. Although tire construction affects the strength and durability, neither the agency nor the tire industry provides information relating tire strength and durability to the number of plies and types of ply cord material in the tread and sidewall. Therefore, tire dealers and customers should consider the tire construction information along with other information such as load capacity, maximum inflation pressure, and tread wear, temperature, and traction ratings, to assess performance capabilities of various tires.

In the agency's judgment, the incorrect labeling of the tire construction information will have an inconsequential effect on motor vehicle safety because most consumers do not base tire purchases or vehicle operation parameters on the ply material in a tire.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 26,224 ² tires that have already passed from the manufacturer to an owner, purchaser, or dealer.

² Goodyear's petition, which was filed under 49 CFR part 556, requests an agency decision to exempt Goodyear as a replacement equipment manufacturer from the notification and recall responsibilities of 49 CFR part 573 for 26,224 of the affected tires. However, a decision on this petition cannot relieve Goodyear distributors of the prohibitions on the sale, offer for sale, or introduction or delivery for introduction into interstate commerce of the noncompliant tires under their control after Goodyear recognized that the subject noncompliance existed.

Authority: 49 U.S.C. 30118, 30120: Delegations of authority at CFR 1.50 and 501.8.

Issued on: January 12, 2012.
Claude H. Harris,
Director, Office of Vehicle Safety Compliance.

[FR Doc. 2012-933 Filed 1-18-12; 8:45 am]

BILLING CODE 4910-59-P